FEDERAL COMMUNICATIONS COMMISSION

Deletion of Items From Sunshine Act Meeting

June 24, 2016.

The following items have been deleted from the list of items scheduled for consideration at the Friday, June 24, 2016, Open Meeting and previously listed in the Commission's Notice of June 17, 2016. Items 1, 2, 4, 5, 6, and 7 on the consent agenda have been adopted by the Commission.

2. Public Safety & Homeland Security Bureau:

Title: Amendment of Part 11 of the Commission's Rules Regarding the Emergency Alert System (PS Docket No. 15-94)

Summary: The Commission will consider a Report and Order that would revise the Emergency Alert System rules by adding new event codes covering extreme high winds and storm surges caused by Category 3 (and greater) hurricanes.

* * * * *

Consent Agenda

The Commission will consider the following subjects listed below as a consent agenda and these items will not be presented individually:

1. Media:

Title: The Los Angeles Social Justice Radio Project, Application for a Permit to Construct a New Low Power FM Station at Los Angeles, California.

Summary: The Commission will consider a Memorandum Opinion and Order concerning the dismissal of an application to construct a new low power FM station in Los Angeles, California.

2. Media:

Title: LPFM MX Group 37.

Summary: The Commission will consider a Memorandum Opinion and Order concerning the LPFM MX Group 37 (San Francisco, CA) from the 2013 LPFM filing window.

3. Media:

Title: Comparative Consideration of 3 Groups of Mutually Exclusive Applications for Permits to Construct New Noncommercial Educational FM Stations.

Summary: The Commission will consider a Memorandum Opinion and Order concerning three petitions for reconsideration for permits to construct new NCE FM stations.

4. Media:

Title: Kingdom of God, Inc., Former Licensee of Deleted Class A Television Station DWKOG-LP, Indianapolis, IN.

Summary: The Commission will consider a Memorandum Opinion and Order concerning the denial of a Petition for Reconsideration of the cancellation of the Station's license and digital construction permit, deletion of its call-sign, and dismissal of pending applications.

5. Media:

Title: Royce International Broadcasting Company, Assignor, and Entercom Communications Corp. (Assignee), Application for Assignment of License of Station KUDL(FM) (formerly KWOD), Sacramento, California.

Summary: The Commission will consider a Memorandum Opinion and Order concerning the Media Bureau's dismissal of a Petition for Review.

6. Media:

Title: Gwendolyn May, Former Permittee of Deleted Low Power Television Station DK15CC, San Antonio, TX.

Summary: The Commission will consider a Memorandum Opinion and Order concerning the denial of a Petition for Reconsideration regarding the rescission of the Video Division's grant of for application for assignment of a construction permit.

7. Media:

Title: R&F Broadcasting, Inc. Licensee of Station WRFB(TV), Carolina, Puerto Rico.

Summary: The Commission will consider an Order adopting a Consent Decree which resolves issues regarding potential violations of the Commission's rules and grants the license renewal application of WRFB(TV).

Federal Communications Commission.
Marlene H. Dortch,
Secretary.

[FR Doc. 2016-15451 Filed 6-29-16; 8:45 am]

BILLING CODE 6712-01-P